DEPARTMENT OF ENERGY

Federal Energy Regulatory Commission

Combined Notice of Filings #1

Take notice that the Commission received the following electric corporate filings:

Docket Numbers: EC11-94-000.

Applicants: Gratiot County Wind LLC, Gratiot County Wind II LLC, Invenergy Wind Development LLC, The Detroit Edison Company.

Description: Application of Gratiot County Wind LLC, et al. for Authorization under section 203 of the FPA.

Filed Date: 07/13/2011.

Accession Number: 20110713-5185.

Comment Date: 5 p.m. Eastern Time on Wednesday, August 03, 2011.

Take notice that the Commission received the following exempt wholesale generator filings:

Docket Numbers: EG11-105-000.

Applicants: Gratiot County Wind II LLC.

Description: Notice of Self-Certification of Exempt Wholesale Generator Status of Gratiot County Wind II LLC.

Filed Date: 07/13/2011.

Accession Number: 20110713-5137.

Comment Date: 5 p.m. Eastern Time on Wednesday, August 03, 2011.

Docket Numbers: EG11-106-000.

Applicants: Invenergy Wind Development Michigan LLC.

Description: Notice of Self-Certification of Exempt Wholesale Generator Status of Invenergy Wind Development Michigan LLC.

Filed Date: 07/13/2011.

Accession Number: 20110713-5146.

Comment Date: 5 p.m. Eastern Time on Wednesday, August 03, 2011.

Take notice that the Commission received the following electric rate filings:

Docket Numbers: ER11-2928-002.

Applicants: Florida Power & Light Company.

Description: Florida Power & Light Company submits tariff filing per 35: FPL Compliance Filing to Rate Schedule FERC No. 322 to be effective 5/1/2011.

Filed Date: 07/13/2011.

Accession Number: 20110713-5156.

Comment Date: 5 p.m. Eastern Time on Wednesday, August 03, 2011.

Docket Numbers: ER11-4041-000.

Applicants: Verde Energy USA Trading, LLC.

Description: Verde Energy USA Trading, LLC submits tariff filing per 35.12: Verde Energy MBR Application Filing to be effective 7/13/2011.

Filed Date: 07/13/2011.

Accession Number: 20110713-5115.

Comment Date: 5 p.m. Eastern Time on Wednesday, August 03, 2011.

Docket Numbers: ER11-4042-000.

Applicants: The Detroit Edison Company.

Description: The Detroit Edison Company submits tariff filing per 35.12: FERC Electric Rate Schedule No. 43 to be effective 12/31/9998.

Filed Date: 07/13/2011.

Accession Number: 20110713-5122.

Comment Date: 5 p.m. Eastern Time on Wednesday, August 03, 2011.

Docket Numbers: ER11-4043-000.

Applicants: Tucson Electric Power Company.

Description: Tucson Electric Power Company submits tariff filing per 35: TEP Updated OATT Diagram Filing to be effective 9/16/2010.

Filed Date: 07/13/2011.

Accession Number: 20110713-5123.

Comment Date: 5 p.m. Eastern Time on Wednesday, August 03, 2011.

Docket Numbers: ER11-4044-000.

Applicants: Gratiot County Wind LLC.

Description: Gratiot County Wind LLC submits tariff filing per 35.1: Application For Market-Based Rate Authorization and Requested Waivers & Approval to be effective 9/12/2011.

Filed Date: 07/13/2011.

Accession Number: 20110713-5124.

Comment Date: 5 p.m. Eastern Time on Wednesday, August 03, 2011.

Docket Numbers: ER11-4045-000.

Applicants: UNS Electric, Inc.

Description: UNS Electric, Inc. submits tariff filing per 35: UNSE Updated OATT Diagram Filing to be effective 9/16/2010.

Filed Date: 07/13/2011.

Accession Number: 20110713-5125.

Comment Date: 5 p.m. Eastern Time on Wednesday, August 03, 2011.

Docket Numbers: ER11-4046-000.

Applicants: Gratiot County Wind II LLC.

Description: Gratiot County Wind II LLC submits tariff filing per 35.1: Application For Market-Based Rate Authorization and Requested Waivers & Approval to be effective 9/12/2011.

Filed Date: 07/13/2011.

Accession Number: 20110713-5126.

Comment Date: 5 p.m. Eastern Time on Wednesday, August 03, 2011.

Docket Numbers: ER11-4047-000.

Applicants: Invenergy Wind Development Michigan LLC.

Description: Invenergy Wind Development Michigan LLC submits tariff filing per 35.1: Filing of Facilities Use Agreement, Request for Waivers and Blanket Approval to be effective 12/31/9998.

Filed Date: 07/13/2011.

Accession Number: 20110713-5127.

Comment Date: 5 p.m. Eastern Time on Wednesday, August 03, 2011.

Docket Numbers: ER11-4048-000.

Applicants: Gratiot County Wind LLC.

Description: Gratiot County Wind LLC submits tariff filing per 35.12: Co-Tenancy and Shared Facilities Agreement and Request for Waivers to be effective 12/31/9998.

Filed Date: 07/13/2011.

Accession Number: 20110713-5128.

Comment Date: 5 p.m. Eastern Time on Wednesday, August 03, 2011.

Docket Numbers: ER11-4049-000.

Applicants: Gratiot County Wind II LLC.

Description: Gratiot County Wind II LLC submits tariff filing per 35.12: Co-Tenancy and Shared Facilities Agreement and Request for Waivers to be effective 12/31/9998.

Filed Date: 07/13/2011.

Accession Number: 20110713-5129.

Comment Date: 5 p.m. Eastern Time on Wednesday, August 03, 2011.

Docket Numbers: ER11-4050-000.

Applicants: Alamosa, LLC.

Description: Alamosa, LLC submits tariff filing per 35.12: Alamosa, LLC Market-Based Rate Tariff to be effective 8/15/2011.

Filed Date: 07/13/2011.

Accession Number: 20110713-5154.

Comment Date: 5 p.m. Eastern Time on Wednesday, August 03, 2011.

Docket Numbers: ER11-4051-000.

Applicants: CSOLAR IV South, LLC.

Description: CSOLAR IV South, LLC submits tariff filing per 35.12: Market-Based Rate Application to be effective 9/11/2011.

Filed Date: 07/13/2011.

Accession Number: 20110713-5155.

Comment Date: 5 p.m. Eastern Time on Wednesday, August 03, 2011.

Docket Numbers: ER11-4052-000.

Applicants: Alpha Gas and Electric LLC.

Description: Alpha Gas and Electric LLC submits tariff filing per 35.13(a)(2)(iii: Market Based Rate Tariff Database to be effective 7/14/2011.

Filed Date: 07/13/2011.

Accession Number: 20110713-5176.

Comment Date: 5 p.m. Eastern Time on Wednesday, August 03, 2011.

Take notice that the Commission received the following land acquisition reports:

Docket Numbers: LA11-2-000.

Applicants: Canandaigua Power Partners, LLC, Canandaigua Power Partners II, LLC, Evergreen Wind Power, LLC, Evergreen Wind Power III, LLC, Evergreen Wind Power V, LLC, First Wind Energy Marketing, LLC, Milford Wind Corridor Phase I, LLC, Milford Wind Corridor Phase II, LLC, Stetson Wind II, LLC, Vermont Wind, LLC.

Description: Land Acquisition Quarterly Report of Canandaigua Power Partners, LLC, et al.

Filed Date: 07/13/2011.

Accession Number: 20110713-5148.

Comment Date: 5 p.m. Eastern Time on Wednesday, August 03, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 14, 2011.
Nathaniel J. Davis, Sr.,
Deputy Secretary.

[FR Doc. 2011-18364 Filed 7-20-11; 8:45 am]

BILLING CODE 6717-01-P